DEPARTMENT OF LABOR

Employment and Training Administration

[TA-W-61,530]

Track Corporation Including On-Site Leased Workers of Forge Industrial, Spring Lake, MI; Notice of Revised Determination on Reconsideration

On June 18, 2007, the Department of Labor (Department) issued a Negative Determination Regarding Eligibility to Apply for Worker Adjustment Assistance and Alternative Trade Adjustment Assistance applicable to the Trade Adjustment Assistance (TAA) and Alternative Trade Adjustment Assistance (ATAA) petition filed by a company official on behalf of workers and former workers of Track Corporation, Spring Lake, Michigan (subject firm). The Department's Notice of negative determination was published in the Federal Register on July 9, 2007 (72 FR 37266).

The subject firm produces seat adjusters for the automotive industry and public seating for stadiums and theaters. Workers are separately identifiable by product line. The TAA/ATAA petition was filed on behalf of workers engaged in the production of seat adjusters.

The negative determination was based on the Department's findings that the subject firm did not shift production of seat adjusters abroad and does not import seat adjusters. A survey revealed that the subject firm's major customer did not import seat adjusters during the relevant period.

By letter dated July 16, 2007, a company official requested administrative reconsideration of the Department's negative determination. The request for reconsideration stated that the subject firm's major customer replaced subject firm purchases with imported seat adjusters.

During the reconsideration investigation, the Department carefully reviewed the administrative file, contacted the company official for clarification, and contacted the subject firm's major customer for more information about its import purchases.

Previously-submitted information revealed that subject firm sales, production, and employment levels declined during the relevant period. Information obtained during the reconsideration investigation revealed that the subject firm's major customer began using foreign-made seat adjusters in 2006 and replacing subject firm purchases with foreign-made seat adjusters during 2007.

In accordance with section 246 of the Trade Act of 1974 (26 U.S.C. 2813), as amended, the Department herein presents the results of its investigation regarding certification of eligibility to apply for ATAA. The Department has determined in this case that the group eligibility requirements of section 246 have been met.

A significant number of workers at the firm are age 50 or over. Workers possess skills that are not easily transferable. Competitive conditions within the industry are adverse.

Conclusion

After careful review of the information obtained in the initial and reconsideration investigations, I determine that the subject workers are adversely-impacted by increased imports of articles like or directly competitive with those produced at the subject firm. In accordance with the provisions of the Act, I make the following certification:

“All workers of Track Corporation, including on-site workers of Forge Industrial, Spring Lake, Michigan, engaged in the production of seat adjusters, who became totally or partially separated from employment on or after May 16, 2006 through two years from the date of this certification, are eligible to apply for adjustment assistance under section 223 of the Trade Act of 1974, and are eligible to apply for alternative trade adjustment assistance under section 246 of the Trade Act of 1974.”

Signed at Washington, DC, this 23rd day of August 2007.
Elliott S. Kushner,
Certifying Officer, Division of Trade Adjustment Assistance.

[FR Doc. E7-17179 Filed 8-29-07; 8:45 am]

BILLING CODE 4510-FN-P